DEPARTMENT OF HOMELAND SECURITY

U.S. Citizenship and Immigration Services

[CIS No. 2746-23; DHS Docket No. USCIS-2014-0003]

RIN 1615-ZB92

Extension and Redesignation of Sudan for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Sudan for Temporary Protected Status (TPS) for 18 months, beginning on October 20, 2023, and ending on April 19, 2025. This extension allows existing TPS beneficiaries to retain TPS through April 19, 2025, so long as they otherwise continue to meet the eligibility requirements for TPS. Existing TPS beneficiaries who wish to extend their status through April 19, 2025, must re-register during the 60-day re-registration period described in this notice. The Secretary is also redesignating Sudan for TPS. The redesignation of Sudan allows additional Sudanese nationals (and individuals having no nationality who last habitually resided in Sudan) who have been continuously residing in the United States since August 16, 2023 to apply for TPS for the first time during the initial registration period described under the redesignation information in this notice. In addition to demonstrating continuous residence in the United States since August 16, 2023 and meeting other eligibility criteria, initial applicants for TPS under this designation must demonstrate that they have been continuously physically present in the United States since October 20, 2023, the effective date of this redesignation of Sudan for TPS.

DATES:

Extension of Designation of Sudan for TPS: The 18-month designation of Sudan for TPS begins on October 20, 2023, and will remain in effect for 18 months, ending on April 19, 2025. The extension impacts existing beneficiaries of TPS.

Re-registration: The 60-day re-registration period for existing beneficiaries runs from August 21, 2023 through October 20, 2023. (Note: It is important for re-registrants to timely re-register during the registration period and not to wait until their Employment Authorization Documents (EADs) expire, as delaying reregistration could result in gaps in their employment authorization documentation.)

Redesignation of Sudan for TPS: The 18-month redesignation of Sudan for TPS begins on October 20, 2023, and will remain in effect for 18 months, ending on April 19, 2025. The redesignation impacts potential first-time applicants and others who do not currently have TPS.

First-time Registration: The initial registration period for new applicants under the Sudan TPS redesignation begins on August 21, 2023 and will remain in effect through April 19, 2025.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at https://www.uscis.gov/tps. You can find specific information about Sudan's TPS designation by selecting “Sudan” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at https://www.uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS sets forth procedures necessary for nationals of Sudan (or individuals having no nationality who last habitually resided in Sudan) to (1) re-register for TPS and to apply for renewal of their EADs with USCIS or (2) submit an initial registration application under the redesignation and apply for an EAD.

Re-registration is limited to individuals who have previously registered for TPS under the prior designation of Sudan and whose applications have been granted. Failure to re-register properly within the 60-day re-registration period may result in the withdrawal of your TPS following appropriate procedures. See 8 CFR 244.14.

For individuals who have already been granted TPS under Sudan's designation, the 60-day re-registration period runs from August 21, 2023 through October 20, 2023. USCIS will issue new EADs with an April 19, 2025, expiration date to eligible Sudanese TPS beneficiaries who timely re-register and apply for EADs. Given the time frames involved with processing TPS re-registration applications, DHS recognizes that not all re-registrants may receive new EADs before their current EADs expire. Accordingly, through this Federal Register notice, DHS automatically extends the validity of certain EADs previously issued under the TPS designation of Sudan through October 19, 2024. Therefore, as proof of continued employment authorization through October 19, 2024, TPS beneficiaries can show their EADs that have the notation A-12 or C-19 under Category and a “Card Expires” date of October 19, 2023. This notice explains how TPS beneficiaries and their employers may determine which EADs are automatically extended and how this affects the Form I-9, Employment Eligibility Verification, E-Verify, and USCIS Systematic Alien Verification for Entitlements (SAVE) processes.

Individuals who have a Sudan TPS application (Form I-821) and/or Application for Employment Authorization (Form I-765) that was still pending as of August 21, 2023 do not need to file either application again. If USCIS approves an individual's pending Form I-821, USCIS will grant the individual TPS through April 19, 2025. Similarly, if USCIS approves a pending TPS-related Form I-765, USCIS will issue the individual a new EAD that will be valid through the same date. There are currently approximately 1,200 beneficiaries under Sudan's TPS designation.

Under the redesignation, individuals who currently do not have TPS may submit an initial application during the initial registration period that runs from August 21, 2023 and runs through the full length of the redesignation period ending April 19, 2025. In addition to demonstrating continuous residence in the United States since August 16, 2023 and meeting other eligibility criteria, initial applicants for TPS under this redesignation must demonstrate that they have been continuously physically present in the United States since October 20, 2023,¹ the effective date of this redesignation of Sudan, before USCIS may grant them TPS. DHS estimates that approximately 2,750 individuals may become newly eligible for TPS under the redesignation of Sudan.

¹ The “continuous physical presence date” (CPP) is the effective date of the most recent TPS designation of the country, which is either the publication date of the designation announcement in the Federal Register or such later date as the Secretary may establish. The “continuous residence date” (CR) is any date established by the Secretary when a country is designated (or sometimes redesignated) for TPS. See INA secs. 244(b)(2)(A) (effective date of designation); 244(c)(1)(A)(i-ii) (CR and CPP date requirements); 8 U.S.C. 1254a(b)(2)(A); 1254a(c)(1)(A)(i-ii).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs so long as they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Sudan designated for TPS?

Sudan was initially designated for TPS on November 4, 1997, on the dual bases of ongoing armed conflict and extraordinary and temporary conditions in Sudan that prevented nationals of Sudan from safely returning.² Sudan's designation was extended and/or it was redesignated numerous times from its initial designation in 1997 until former Acting Secretary of Homeland Security Elaine Duke provided notice in the Federal Register on October 11, 2017, that she was terminating Sudan's TPS designation, effective November 2, 2018.³

² Designation of Sudan Under Temporary Protected Status, 62 FR 59737 (Nov. 4, 1997).

³ Termination of the Designation of Sudan for Temporary Protected Status, 82 FR 47228 (Oct. 11, 2017).

The termination of Sudan's TPS designation has been challenged in several lawsuits, and court orders require DHS to continue TPS for Sudan temporarily pending further court order.⁴ In April 2022, Secretary Mayorkas newly designated Sudan on the basis of extraordinary and temporary conditions effective April 19, 2022, through October 19, 2023.⁵

⁴ On June 29, 2023, the Ninth Circuit granted the Secretary's motion for voluntary dismissal of the appeal of the injunction. See Ramos v. Wolf, 2023 WL 4363667 (June 29, 2023) (No. 18-16981). The Department of Homeland Security (DHS) is continuing its compliance with the preliminary injunction order of the U.S. District Court for the Northern District of California in Ramos v. Nielsen, No. 18-cv-01554 (N.D. Cal. Oct. 3, 2018).

⁵ Designation of Sudan for Temporary Protected Status, 87 FR 23202 (Apr. 19, 2022).

What authority does the Secretary have to extend the designation of Sudan for TPS?

Section 244(b)(1) of the INA, 8 U.S.C. 1254a(b)(1), authorizes the Secretary, after consultation with appropriate agencies of the U.S. Government, to designate a foreign state (or part thereof) for TPS if the Secretary determines that certain country conditions exist.⁶ The decision to designate any foreign state (or part thereof) is a discretionary decision, and there is no judicial review of any determination with respect to the designation, termination, or extension of a designation. See INA section 244(b)(5)(A); 8 U.S.C. 1254a(b)(5)(A). The Secretary, in his or her discretion, may then grant TPS to eligible nationals of that foreign state (or individuals having no nationality who last habitually resided in the designated foreign state). See INA section 244(a)(1)(A), 8 U.S.C. 1254a(a)(1)(A).

⁶ INA section 244(b)(1) ascribes this power to the Attorney General. Congress transferred this authority from the Attorney General to the Secretary of Homeland Security. See Homeland Security Act of 2002, Public Law 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

At least 60 days before the expiration of a foreign state's TPS designation or extension, the Secretary, after consultation with appropriate U.S. Government agencies, must review the conditions in the foreign state designated for TPS to determine whether they continue to meet the conditions for the TPS designation. See INA section 244(b)(3)(A), 8 U.S.C. 1254a(b)(3)(A). If the Secretary determines that the foreign state continues to meet the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

What is the Secretary's authority to redesignate Sudan for TPS?

In addition to extending an existing TPS designation, the Secretary, after consultation with appropriate Government agencies, may redesignate a country (or part thereof) for TPS. See INA section 244(b)(1), 8 U.S.C. 1254a(b)(1); see also INA section 244(c)(1)(A)(i), 8 U.S.C. 1254a(c)(1)(A)(i) (requiring that “the alien has been continuously physically present since the effective date of the most recent designation of the state”) (emphasis added).⁷

⁷ The extension and redesignation of TPS for Sudan is one of several instances in which the Secretary and, prior to the establishment of DHS, the Attorney General, have simultaneously extended a country's TPS designation and redesignated the country for TPS. See, e.g., Extension and Redesignation of Haiti for Temporary Protected Status, 76 FR 29000 (May 19, 2011); Extension and Redesignation of Temporary Protected Status for Sudan, 69 FR 60168 (Oct. 7, 2004); Extension of Designation and Redesignation of Liberia Under Temporary Protected Status Program, 62 FR 16608 (Apr. 7, 1997).

When the Secretary designates or redesignates a country for TPS, the Secretary also has the discretion to establish the date from which TPS applicants must demonstrate that they have been “continuously resid[ing]” in the United States. See INA section 244(c)(1)(A)(ii), 8 U.S.C. 1254a(c)(1)(A)(ii). The Secretary has determined that the “continuous residence” date for applicants for TPS under the redesignation of Sudan shall be August 16, 2023. Initial applicants for TPS under this redesignation must also show they have been “continuously physically present” in the United States since October 20, 2023, which is the effective date of the Secretary's redesignation, of Sudan. See INA section 244(c)(1)(A)(i), 8 U.S.C. 1254a(c)(1)(A)(i). For each initial TPS application filed under the redesignation, the final determination of whether the applicant has met the “continuous physical presence” requirement cannot be made until October 20, 2023, the effective date of this redesignation for Sudan. USCIS, however, will issue employment authorization documentation, as appropriate, during the registration period in accordance with 8 CFR 244.5(b).

Why is the Secretary extending the TPS designation for Sudan and simultaneously redesignating Sudan for TPS through April 19, 2025?

DHS has reviewed country conditions in Sudan. Based on the review, including input received from DOS and other U.S. Government agencies, the Secretary has determined that an 18-month TPS extension is warranted because extraordinary and temporary conditions supporting Sudan's TPS designation remain. The Secretary has further determined that redesignating Sudan for TPS under INA section 244(b)(1)(A), 8 U.S.C. 1254a(b)(1)(A) and INA section 244(b)(1)(C), 8 U.S.C. 1254a(b)(3)(C) due to the ongoing armed conflict and continuing extraordinary and temporary conditions is warranted. The Secretary is accordingly updating the “continuous residence” and “continuous physical presence” dates that applicants must meet to be eligible for TPS.

Overview

Sudan is enduring an ongoing armed conflict and a humanitarian crisis in which millions of individuals are exposed to violence, illness, and forced displacement. On April 15, 2023, violent armed conflict between the Sudanese Armed Forces (SAF) and the Rapid Support Forces (RSF) ⁸ erupted in Sudan killing hundreds of people, driving more than 700,000 persons to flee to other countries.⁹

⁸ Rapid Support Forces (RSF) is a paramilitary force established in 2013 by former President al-Bashir. It was “fashioned out of Janjaweed militias and was assembled in response to anti-government rebel movements in Darfur.” It has also been accused of “a myriad of human rights abuses in Darfur and elsewhere.” The Rapid Support Forces and the Escalation of Violence in Sudan, ACLED, July 2, 2019, acleddata.com/2019/07/02/the-rapid-support-forces-and-the-escalation-of-violence-in-sudan/ (last visited May 10, 2023). “In January 2015, the Rapid Support Forces, which had been operating under the command of the National Intelligence Security Services, became part of the regular government forces through a constitutional amendment. In April 2015, the RSF were placed under the command of the Presidency. In January 2017, the Parliament passed the Rapid Support Forces Act, integrating those forces into the Sudan Armed Forces.” Report of the Secretary—General on children and armed conflict in Sudan, UN Security Council, March 6, 2017, pg. 3, https://reliefweb.int/report/sudan/report-secretary-general-children-and-armed-conflict-sudan-s2017191-enar (last visited July 24, 2023).

⁹ Aidan Lewis, What is happening in Sudan? Fighting in Khartoum explained, updated July 13, 2023, https://www.reuters.com/world/africa/whats-behind-sudans-crisis-2023-04-17/ (last visited July 24, 2023); Dozens of civilians are dead as rival military factions batter for control of Sudan, National Public Radio, April 17, 2023, https://www.npr.org/2023/04/16/1170289462/sudans-army-and-rsf-are-doing-battle-leaving-56-civilians-dead (last visited April 17, 2023).

This recent armed conflict stems from events occurring in April 2019 when, after 30 years in power, Sudan's then-President Omar al-Bashir was removed from office.¹⁰ In August 2019, a transitional government ¹¹ comprised of military and civilian members was established in Sudan, that was eventually dissolved in October 2021.¹² Since that time, Sudan has continued to face political instability and power struggles.¹³ In February 2023, the United Nations (UN) Panel of Experts on the Sudan reported that Sudan continued to face a “political crisis at the national level, with regular demonstrations against the rule of the military.” ¹⁴

¹⁰ Susan Stigant; Elizabeth Murray, After Bashir, A New Dawn in Sudan? U.S. Institute of Peace, April 17, 2019, https://www.usip.org/publications/2019/04/after-bashir-new-dawn-sudan-part-1 (last visited April 17, 2023).

¹¹ Susan Stigant; Elizabeth Murray, After Bashir, A New Dawn in Sudan? U.S. Institute of Peace, April 17, 2019, https://www.usip.org/publications/2019/04/after-bashir-new-dawn-sudan-part-1 (last visited April 17, 2023).

¹² 2022 Country Reports on Human Rights Practices: Sudan, U.S. Department of State, March 20, 2023, pg. 1, https://www.state.gov/reports/2022-country-reports-on-human-rights-practices/sudan/ (last visited July 24, 2023).

¹³ See 2022 Country Reports on Human Rights Practices: Sudan, U.S. Department of State, March 20, 2023, https://www.state.gov/reports/2022-country-reports-on-human-rights-practices/sudan/ (last visited July 24, 2023); see also Sudan strongman is seen as an insider with powerful allies, AP News, October 27, 2021, https://apnews.com/article/sudan-who-is-abdel-fattah-burhan-3f2d4d660fabf1b526f09f04808af7c8 (last visited April 17, 2023); see also 2019 Country Reports on Human Rights Practices: Sudan, U.S. Department of State, March 30, 2020, pg. 2, https://www.state.gov/reports/2019-country-reports-on-human-rights-practices/sudan/ (last visited April 17, 2023); see also Appetite for Destruction: The Military Counterrevolution in Sudan, ACLED, October 29, 2021, https://www.state.gov/reports/2019-country-reports-on-human-rights-practices/sudan/ (last visited April 7, 2023); see also Watch List 2022; Sudan: Toward a Reset for the Transition, International Crisis Group, January 27, 2022, https://www.ecoi.net/en/document/2069005.html (last visited March 29, 2023).

¹⁴ Letter dated 7 February 2023 from the Panel of Experts on the Sudan addressed to the President of the Security Council; Final report of the Panel of Experts on the Sudan, UN Security Council, February 7, 2023, pg. 8, available at https://www.ecoi.net/en/file/local/2087153/N2303752.pdf (last visited March 29, 2023).

Recent Armed Conflict

The armed conflict that erupted on April 15, 2023, started in the capital, Khartoum, but has spread across Sudan.¹⁵ Fighting between the SAF and the RSF has included the use of tanks, artillery, rockets, and, in the case of the SAF, air-delivered munitions, which has resulted to harm to civilians in Khartoum and elsewhere.¹⁶ The UN Assistant Secretary for Humanitarian Affairs reported that the humanitarian crisis in Sudan was “quickly turning into a catastrophe.” ¹⁷ As of April 25, 2023, more than 450 people had been killed, more than 4,000 had been injured, at least 20 hospitals had been forced to close due to damage, military use, or lack of resources, power cuts and fuel shortages risked damaging vaccine stocks and water supplies, a precursor for the spread of disease, and there had been numerous reports of gender-based violence, including sexual violence.¹⁸ Additionally, reports indicate that the most recent fighting has resulted in tens of thousands of people fleeing from their homes, for neighboring cities and countries, including Chad, Egypt, and South Sudan.¹⁹ Insecurity and criminality in Sudan is on the rise, and reports indicate that thousands of inmates were freed outright from prison.²⁰ This has resulted in a growing sense of lawlessness in the capital of Khartoum, and residents have reported widespread looting and gangs roaming the streets.²¹

¹⁵ Human Rights Watch, Sudan: Explosive Weapons Harming Civilians, May 4, 2023, https://www.hrw.org/news/2023/05/04/sudan-explosive-weapons-harming-civilians (last visited May 10, 2023).

¹⁶ Human Rights Watch, Sudan: Explosive Weapons Harming Civilians, May 4, 2023, https://www.hrw.org/news/2023/05/04/sudan-explosive-weapons-harming-civilians (last visited May 10, 2023).

¹⁷ Assistant Secretary-General for Humanitarian Affairs and Deputy Emergency Relief Coordinator Ms. Joyce Msuya: Briefing to the Security Council on the Humanitarian Situation in Sudan, UNOCHA, April 25, 2023, https://reliefweb.int/report/sudan/assistant-secretary-general-humanitarian-affairs-and-deputy-emergency-relief-coordinator-ms-joyce-msuya-briefing-security-council-humanitarian-situation-sudan-new-york-25-april-2023 (last visited April 26, 2023).

¹⁸ Assistant Secretary-General for Humanitarian Affairs and Deputy Emergency Relief Coordinator Ms. Joyce Msuya: Briefing to the Security Council on the Humanitarian Situation in Sudan, UNOCHA, April 25, 2023, https://reliefweb.int/report/sudan/assistant-secretary-general-humanitarian-affairs-and-deputy-emergency-relief-coordinator-ms-joyce-msuya-briefing-security-council-humanitarian-situation-sudan-new-york-25-april-2023 (last visited April 26, 2023).

¹⁹ Abdi Latif Dahir, Violence in Sudan Cuts Through Shaky U.S.-Brokered Cease-Fire, The New York Times, April 25, 2023, https://www.nytimes.com/2023/04/25/world/africa/sudan-fighting-cease-fire.html (last visited April 26, 2023).

²⁰ Reuters, Factbox: Sudan's Bashir and allies out of jail, fighting flares, April 26, 2023, https://www.reuters.com/world/africa/sudans-bashir-whereabouts-unknown-after-associates-prison-escape-2023-04-26 (last visited April 27, 2023).

²¹ VOA Africa, Al-Bashir Crew Breakout Bodes Ill for Sudan, Voice of America, April 26, 2023, https://www.voaafrica.com/a/al-bashir-crew-breakout-bodes-ill-for-sudan/7066645.html (last visited April 26, 2023).

Due to the outbreak of fighting, foreign governments evacuated thousands of diplomats and private citizens.²² The U.S. government assisted U.S. citizens, locally employed staff, and nationals from allied and partner countries to evacuate Sudan and has taken extensive efforts to contact U.S. citizens in Sudan and enable the departure of those who wished to leave.²³ Additionally, the U.S. government has issued a “Level 4: Do Not Travel” advisory for Sudan due to armed conflict, civil unrest, crime, terrorism, and kidnapping.²⁴

²² Reuters, Factbox: Countries rush to evacuate foreign citizens from Sudan, April 25, 2023, https://www.reuters.com/world/africa/countries-scramble-evacuate-foreign-citizens-sudan-2023-04-25 (last visited April 26, 2023).

²³ U.S. Dep't of State, Press Statement, Evacuation Efforts of U.S. Citizens From Sudan, April 29, 2023, https://www.state.gov/evacuation-efforts-of-u-s-citizens-from-sudan/.

²⁴ U.S. Dep't of State, Sudan Travel Advisory, April 22, 2023, https://travel.state.gov/content/travel/en/traveladvisories/traveladvisories/sudan-travel-advisory.html.

Humanitarian Concerns

“Even before the current fighting began, humanitarian needs across Sudan had reached record levels, with 15.8 million people—about a third of the total population—requiring humanitarian assistance this year [2023].²⁵ The latest violence has led to acute shortages of food, water, medicines and fuel, while the price of essential items, including transport, have skyrocketed.” ²⁶ The United Nations Integrated Transition Assistance Mission in Sudan (UNITAMS) reported in September 2022 that “[h]umanitarian needs have grown exponentially in the Sudan because of conflict, the political and economic crisis, increased insecurity and localized violence, and protracted internal displacement still lacking durable solutions, coupled with dry spells, floods and disease outbreaks.” ²⁷ Additionally, according to the World Food Program (WFP), over 15 million people were food insecure in 2022.²⁸ In September 2022, the UN reported that “[a]lmost one quarter of the population is estimated to be facing acute hunger during the lean season from June to September.” ²⁹ In addition, flooding and dry spells in successive years have affected property, infrastructure, and crops, resulting in forced displacement and livestock losses.³⁰ Flash floods have also led to contamination of water supplies and increased cases of diarrhea and cholera.³¹ Sudan's health system remains exceptionally fragile and faces difficulties over inadequate supplies of medicines and medical items.³² According to the United Nations Office for the Coordination of Humanitarian Affairs (UNOCHA), the current level of health personnel staffing (doctors, nurses, and midwives) can only cater to 17 percent of Sudan's population.³³

²⁵ UN News, Background to a crisis: In Sudan, the stakes are high for the whole of Africa, Apr. 28, 2023, https://news.un.org/en/story/2023/04/1136187?gclid=CjwKCAjwge2iBhBBEiwAfXDBR2pyoM7HB8ImtmbdANXbBou4gGeMYaruPqrxoL9aal25EC8sI52TpRoCnwwQAvD_BwE (last visited May 10, 2023).

²⁶ UN News, Background to a crisis: In Sudan, the stakes are high for the whole of Africa, April 28, 2023, https://news.un.org/en/story/2023/04/1136187?gclid=CjwKCAjwge2iBhBBEiwAfXDBR2pyoM7HB8ImtmbdANXbBou4gGeMYaruPqrxoL9aal25EC8sI52TpRoCnwwQAvD_BwE (last visited May 10, 2023).

²⁷ Situation in Sudan and the activities of the UNITAMS, UN Security Council, September 2, 2022, pg. 15, https://www.ecoi.net/en/file/local/2078615/N2258000-1.pdf (last visited July 24, 2023).

²⁸ Sudan Annual Report 2022: Country Strategic Plan 2019-2023, World Food Programme, Pg. 3, https://reliefweb.int/report/sudan/sudan-annual-country-report-2022-country-strategic-plan-2019-2023 (last visited March 23, 2023).

²⁹ Situation in Sudan and the activities of the UNITAMS, UN Security Council, September 2, 2022, pg. 7 https://www.ecoi.net/en/file/local/2078615/N2258000-1.pdf (last visited March 29, 2023).

³⁰ Humanitarian Needs Overview Sudan 2023, UNOCHA, November 2, 2022, pg. 27, https://reliefweb.int/report/sudan/sudan-humanitarian-needs-overview-2023-november-2022 (last visited April 7, 2023).

³¹ Sudan: Humanitarian Key Messages (February 2023), UNOCHA, February 26, 2023, https://reliefweb.int/report/sudan/sudan-humanitarian-key-messages-february-2023 (last visited April 11, 2023).

³² Humanitarian Needs Overview Sudan 2023, UNOCHA, November 2, 2022, pg. 20, https://reliefweb.int/report/sudan/sudan-humanitarian-needs-overview-2023-november-2022 (last visited April 7, 2023).

³³ Humanitarian Needs Overview Sudan 2023, UNOCHA, November 2, 2022, pg. 22, https://reliefweb.int/report/sudan/sudan-humanitarian-needs-overview-2023-november-2022 (last visited April 7, 2023).

Prior to the recent conflict, there were 3.8 million internally displaced persons (IDPs) in Sudan, and this figure has increased since the conflict began in April 2023.³⁴ Living conditions for IDPs remain dire, as “IDPs and [vulnerable] residents were displaced multiple times; they were traumatized, physically abused, injured; or lost family members, personal belongings, shelters, villages and access to land, water points and firewood collection.” ³⁵ UNOCHA reported in November 2022 that the majority of IDPs continue to reside in temporary sites, and are unable to return to their homes or previous displacement sites due to security concerns.³⁶

³⁴ International Organization for Migration (IOM), DTM Sudan—Situation Report (16), Aug 8, 2023, https://dtm.iom.int/reports/dtm-sudan-situation-report-16 (last visited Aug. 9, 2023).

³⁵ Humanitarian Needs Overview Sudan 2023, UNOCHA, November 2, 2022, Pg. 31, https://reliefweb.int/report/sudan/sudan-humanitarian-needs-overview-2023-november-2022 (last visited April 7, 2023).

³⁶ Humanitarian Needs Overview Sudan 2023, UNOCHA, November 2, 2022, Pg. 31, https://reliefweb.int/report/sudan/sudan-humanitarian-needs-overview-2023-november-2022 (last visited April 7, 2023).

Based upon this review and after consultation with appropriate U.S. Government agencies, the Secretary has determined that:

• The conditions supporting Sudan's designation for TPS continue to be met. See INA sec. 244(b)(3)(A) and (C), 8 U.S.C. 1254a(b)(3)(A) and (C).

• There continue to be extraordinary and temporary conditions in Sudan that prevent Sudanese nationals (or individuals having no nationality who last habitually resided in Sudan) from returning to Sudan in safety, and it is not contrary to the national interest of the United States to permit Sudanese TPS beneficiaries to remain in the United States temporarily. See INA sec. 244(b)(1)(C), 8 U.S.C. 1254a(b)(1)(C).

• There is an ongoing armed conflict in Sudan and, due to such conflict, requiring the return to Sudan of Sudanese nationals (or individuals having no nationality who last habitually resided in Sudan) would pose a serious threat to their personal safety. See INA sec. 244(b)(1)(A), 8 U.S.C. 1254a(b)(1)(A).

• The designation of Sudan for TPS should be extended for an 18-month period, beginning on October 20, 2023, and ending on April 19, 2025. See INA sec. 244(b)(3)(C), 8 U.S.C. 1254a(b)(3)(C).

• Due to the conditions described above, Sudan should be simultaneously extended and redesignated for TPS beginning on October 20, 2023, and ending on April 19, 2025. See INA sec. 244(b)(1)(A) and (C) and (b)(2), 8 U.S.C. 1254a(b)(1)(A) and (C) and (b)(2).

• For the redesignation, the Secretary has determined that TPS applicants must demonstrate that they have continuously resided in the United States since August 16, 2023.

• Initial TPS applicants under the redesignation must demonstrate that they have been continuously physically present in the United States since October 20, 2023, the effective date of the redesignation of Sudan for TPS.

• There are approximately 1,200 current Sudan TPS beneficiaries who are eligible to re-register for TPS under the extension.

• It is estimated that approximately 2,750 additional individuals may be eligible for TPS under the redesignation of Sudan. This population includes Sudanese nationals in the United States in nonimmigrant status or without immigration status.

Notice of the Designation of Sudan for TPS

By the authority vested in me as Secretary under INA section 244, 8 U.S.C. 1254a, I have determined, after consultation with the appropriate U.S. Government agencies, the statutory conditions supporting Sudan's designation for TPS on the dual bases of ongoing armed conflict and extraordinary and temporary conditions are met and it is not contrary to the national interest of the United States to permit Sudanese TPS beneficiaries to remain in the United States temporarily. See INA sec. 244(b)(1)(A) and (C), 8 U.S.C. 1254a(b)(1)(A) and (C). On the basis of this determination, I am simultaneously extending the existing designation of Sudan for TPS for 18 months, beginning on October 20, 2023, and ending on April 19, 2025, and redesignating Sudan for TPS for the same 18-month period. See INA sec. 244(b)(1)(A) and (C) and (b)(2); 8 U.S.C. 1254a(b)(1)(A) and (C), and (b)(2).

Alejandro N. Mayorkas,
Secretary, U.S. Department of Homeland Security.

Eligibility and Employment Authorization for TPS

Required Application Forms and Application Fees To Register or Re-Register for TPS

To register for TPS based on the designation of Sudan, you must submit a Form I-821, Application for Temporary Protected Status, and pay the filing fee (or request a fee waiver, which you may submit on Form I-912, Request for Fee Waiver). You may be required to pay the biometric services fee. If you can demonstrate an inability to pay the biometric services fee, you may request to have the fee waived. Please see additional information under the “Biometric Services Fee” section of this notice.

TPS beneficiaries are eligible for an Employment Authorization Document (EAD), which proves their authorization to work in the United States. You are not required to submit Form I-765, Application for Employment Authorization, or have an EAD to be granted TPS, but see below for more information if you want an EAD to use as proof that you can work in the United States.

Individuals who have a Sudan TPS application (Form I-821) that was still pending as of August 21, 2023 do not need to file the application again. If USCIS approves an individual's Form I-821, USCIS will grant the individual TPS through April 19, 2025.

For more information on the application forms and fees for TPS, please visit the USCIS TPS web page at https://www.uscis.gov/tps. Fees for the Form I-821, the Form I-765, and biometric services are also described in 8 CFR 103.7(b)(1) (Oct. 1, 2020). In addition, the form instructions for the Form I-821 and Form I-765 provide further information on requirements and fees for both initial TPS applicants and existing TPS beneficiaries who are re-registering.

How can TPS beneficiaries obtain an employment authorization document (EAD)?

Everyone must provide their employer with documentation showing that they have the legal right to work in the United States. TPS beneficiaries are eligible to obtain an EAD, which proves their legal right to work. Those who want to obtain an EAD must file a Form I-765 and pay the Form I-765 fee (or request a fee waiver, which you may submit on Form I-912, Request for Fee Waiver). TPS applicants may file this form along with their TPS application, or at a later date, provided their TPS application is still pending or has been approved. Beneficiaries with a Sudanese TPS-related Form I-765 that was still pending as of August 21, 2023 do not need to file the application again. If USCIS approves a pending TPS-related Form I-765, USCIS will issue the individual a new EAD that will be valid through April 19, 2025.

Refiling an Initial TPS Registration Application After Receiving a Denial of a Fee Waiver Request

If USCIS denies your fee waiver request, you can resubmit your TPS application. The fee waiver denial notice will contain specific instructions about resubmitting your application.

Filing Information

USCIS offers the option to applicants for TPS under Sudan's designation to file Form I-821 and related requests for EADs online or by mail. However, if you request a fee waiver, you must submit your application by mail. When filing a TPS application, applicants can also request an EAD by submitting a completed Form I-765, with their Form I-821.

Online filing: Forms I-821 and I-765 are available for concurrent filing online.³⁷ To file these forms online, you must first create a USCIS online account.³⁸

³⁷ Find information about online filing at “Forms Available to File Online,” https://www.uscis.gov/file-online/forms-available-to-file-online.

³⁸ https://myaccount.uscis.gov/users/sign_up.

Mail filing: Mail your application for TPS to the proper address in Table 1.

Table 1—Mailing Addresses

Mail your completed Form I-821, Application for Temporary Protected Status; Form I-765, Application for Employment Authorization, if applicable; Form I-912, Request for Fee Waiver (if applicable); and supporting documentation to the proper address in Table 1.

Table 1—Mailing Addresses
All states | Mail your application to:
U.S. Postal Service USPS: | USCIS, Attn: TPS Sudan, P.O. Box 6943, Chicago, IL 60680-6943.
FedEx, UPS, and DHL deliveries: | USCIS, Attn: TPS Sudan (Box 6943), 131 S. Dearborn 3rd Floor, Chicago, IL 60603-5517.

If you were granted TPS by an immigration judge (IJ) or the Board of Immigration Appeals (BIA) and you wish to request an EAD, please file online or mail your Form I-765 application to the appropriate mailing address in Table 1. If filing online, please include the fee. If filing by mail, please include the fee or fee waiver request. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at https://www.uscis.gov/tps under “Sudan.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing Form, I-131, you must:

• Select Item Number 1.d. in Part 2 on the Form I-131; and

• Submit the fee for Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are | Mail to
Filing Form I-131 together with a Form I-821, Application for Temporary Protected Status | The address provided in Table 1.
Filing Form I-131 based on a pending or approved Form I-821, and you are using the U.S. Postal Service (USPS): | USCIS, Attn: I-131 TPS, P.O. Box 660167, Dallas, TX 75266-0867.
You must include a copy of the receipt notice (Form I-797 or I-797C) showing we accepted or approved your Form I-821
Filing Form I-131 based on a pending or approved Form I-821, and you are using FedEx, UPS, or DHL: | USCIS, Attn: I-131 TPS, 2501 S. State Hwy. 121 Business, Ste. 400, Lewisville, TX 75067.
You must include a copy of the receipt notice (Form I-797 or I-797C) showing we accepted or approved your Form I-821

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. If necessary, you may be required to visit an Application Support Center to have your biometrics captured. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Am I eligible to receive an automatic extension of my current EAD through October 19, 2024, through this Federal Register notice?

Yes. Regardless of your country of birth, provided that you currently have a Sudan TPS-based EAD that has the notation A-12 or C-19 under Category and a “Card Expires” date of October 19, 2023, this Federal Register notice automatically extends your EAD through October 19, 2024. Although this Federal Register notice automatically extends your EAD through October 19, 2024, you must re-register timely for TPS in accordance with the procedures described in this Federal Register notice to maintain your TPS and employment authorization.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for further information. If your EAD states A-12 or C-19 under Category and has a “Card Expires” date of October 19, 2023, it has been extended automatically by virtue of this Federal Register notice and you may choose to present your EAD to your employer as proof of identity and employment eligibility for Form I-9 through October 19, 2024, unless your TPS has been withdrawn or your request for TPS has been denied. Your country of birth notated on the EAD does not have to reflect the TPS designated country of Sudan for you to be eligible for this extension.

What documentation may I present to my employer for Form I-9 if I am already employed but my current TPS-related EAD is set to expire?

Even though we have automatically extended your EAD, your employer is required by law to ask you about your continued employment authorization. Your employer may need to re-examine your automatically extended EAD to check the “Card Expires” date and Category code if your employer did not keep a copy of your EAD when you initially presented it. Once your employer has reviewed the Card Expiration date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through October 19, 2024, but you are not required to do so. The last day of the automatic EAD extension is October 19, 2024. Before you start work on October 20, 2024, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, regardless of whether you have an EAD or work authorization based on another immigration status. If you want to obtain a new TPS-based EAD valid through April 19, 2025, then you must file Form I-765, Application for Employment Authorization, and pay the associated fee (unless USCIS grants your fee waiver request).

Can my employer require that I provide any other documentation such as evidence of my status, proof of my Sudanese citizenship, or a Form I-797C showing that I registered for TPS for Form I-9 completion?

No. When completing Form I-9, employers must accept any documentation you choose to present from the Form I-9 Lists of Acceptable Documents that reasonably appears to be genuine and that relates to you, or an acceptable List A, List B, or List C receipt. Employers may not request proof of Sudanese citizenship or proof of registration for TPS when completing Form I-9 for new hires or reverifying the employment authorization of current employees. If you present an EAD that USCIS has automatically extended, employers should accept it as a valid List A document so long as the EAD reasonably appears to be genuine and to relate to you. Refer to the “Note to Employees” section of this Federal Register notice for important information about your rights if your employer rejects lawful documentation, requires additional documentation, or otherwise discriminates against you based on your citizenship or immigration status, or your national origin.

How do my employer and I complete Form I-9 using my automatically extended EAD for a new job?

When using an automatically extended EAD to complete Form I-9 for a new job before October 20, 2024:

1. For Section 1, you should:

a. Check “A noncitizen authorized to work until” and enter October 19, 2024, as the “expiration date”; and

b. Enter your USCIS number or A-Number where indicated. (Your EAD or other document from DHS will have your USCIS number or A-Number printed on it; the USCIS number is the same as your A-Number without the A prefix.)

2. For Section 2, employers should:

a. Determine if the EAD is auto-extended by ensuring it is in category A-12 or C-19 and has a “Card Expires” date of October 19, 2023;

b. Write in the document title;

c. Enter the issuing authority;

d. Provide the document number; and

e. Write October 19, 2024, as the expiration date.

Before the start of work on October 20, 2024, employers must reverify the employee's employment authorization on Form I-9.

What updates should my current employer make to Form I-9 if my EAD has been automatically extended?

If you presented a TPS-related EAD that was valid when you first started your job and USCIS has now automatically extended your EAD, your employer may need to re-examine your current EAD if they do not have a copy of the EAD on file. Your employer should determine if your EAD is automatically extended by ensuring that it contains Category A-12 or C-19 and has a “Card Expires” date of October 19, 2023. Your employer may not rely on the country of birth listed on the card to determine whether you are eligible for this extension.

If your employer determines that USCIS has automatically extended your EAD, your employer should update Section 2 of your previously completed Form I-9 as follows:

1. Write EAD EXT and October 19, 2024, as the last day of the automatic extension in the Additional Information field; and

2. Initial and date the correction.

Note: This is not considered a reverification. Employers do not reverify the employee until either the automatic extension has ended, or the employee presents a new document to show continued employment authorization, whichever is sooner. By October 20, 2024, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter October 19, 2024, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on October 20, 2024, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov or get more information online at www.justice.gov/ier.

Note to Employees

For general questions about the employment eligibility verification process, employees may call USCIS at 888-897-7781 (TTY 877-875-6028) or email USCIS at I-9Central@uscis.dhs.gov. USCIS accepts calls in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (mismatch) must promptly inform employees of the mismatch and give such employees an opportunity to take action to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your current EAD with a TPS category code of A-12 or C-19, even if your country of birth noted on the EAD does not reflect the TPS designated country of Sudan;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation regarding which document(s) the agency will accept. Some state and local government agencies use the SAVE program to confirm the current immigration status of applicants for public benefits.

While SAVE can verify that an individual has TPS, each agency's procedures govern whether they will accept an unexpired EAD, Form I-797, Form I-797C, or Form I-94, Arrival/Departure Record. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (such as A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, https://www.uscis.gov/save, has detailed information on how to make corrections or update your immigration record, make an appointment, or submit a written request to correct records.

[FR Doc. 2023-17877 Filed 8-18-23; 8:45 am]

BILLING CODE 9111-97-P